DEPARTMENT OF JUSTICE

Notice of Lodging of Proposed Consent Decree Under the Clean Air Act

Notice is hereby given that on September 22, 2010, a proposed Consent Decree (“Decree”) in United States v. Appleton Papers Inc., Civil Action No. 10-C-0828, was lodged with the United States District Court for the Eastern District of Wisconsin.

In this proposed settlement the United States resolves violations of the Clean Air Act at Defendant's two paper manufacturing facilities located in West Carrollton, Ohio and Roaring Springs, Pennsylvania. The violations include failing to meet the industrial refrigerant leak repair, testing, recordkeeping and reporting regulations at 40 CFR part 82, Subpart F, and, at the West Carrollton facility only, failing to limit visible emissions from two coal-fired spreader boilers as required by the facility's Title V permit. Under the proposed Decree, Defendant agrees, among other things, to comply with the opacity limitation specified in the Title V permit and to replace industrial process refrigeration appliances containing ozone-depleting substances with appliances that contain non-ozone depleting refrigerants. Defendant also agrees to pay a civil penalty in the amount of $96,324.00 and complete a Supplemental Environmental Project.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to Appleton Papers Inc., D.J. Ref. No. 90-5-2-1-09575.

The proposed Decree may be examined at the Office of the United States Attorney, 517 E. Wisconsin Avenue, Suite 530, Milwaukee, Wisconsin 53202-4588 and at U.S. EPA Region 5, 77 W. Jackson Blvd., 16th Floor (EPA Library), Chicago, Illinois 60604. During the public comment period, the proposed Decree may also be examined on the following Department of Justice Web site http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury or, if by e-mail or fax, forward a check in that amount to the Consent Decree Library at the stated address.

Maureen Katz,
Assistant Chief Environmental Enforcement Section.

[FR Doc. 2010-24299 Filed 9-27-10; 8:45 am]

BILLING CODE 4410-15-P